DEPARTMENT OF ENERGY

Federal Energy Regulatory Commission

Notice of Settlement Agreement and Soliciting Comments

August 1, 2001.

Take notice the following Settlement Agreement has been filed with the Commission and is available for public inspection:

a. Type of application: Settlement on New Major License Application

b. Project No. 2142-031

Project Name: Indian Pond

Applicant: FPL Energy Maine Hydro, LLC

c. Date Settlement Agreement filed: July 26, 2001

d. Location: On the Kennebec River, near the town of The Forks, Somerset and Piscataquis counties, Maine. The project would not utilize federal lands.

e. Filed Pursuant to: Federal Power Act, 16 U.S.C. §§ 791(a)—825(r).

f. Applicant Contact: Robert C. Richter III, Senior Environmental Coordinator; FPL Energy Maine Hydro, LLC; 100 Middle Street; Portland, ME 04101; (207) 771-3536.

g. FERC Contact: Kevin Whalen (202) 219-2790.

h. Deadline dates: Comments due: 30 days from the issuance date of this notice. Reply comments due: 45 days from the issuance date of this notice.

i. All documents (original and eight copies) should be filed with: David P. Boergers, Secretary; Federal Energy Regulatory Commission; 888 First Street, NE; Washington, DC 20426. Comments, protests and interventions may be filed electronically via the Internet in lieu of paper. See, 18 CFR 385.2001(a)(1)(iii) and the instructions on the Commission's web site under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

j. A Settlement Agreement was filed with the Commission on July 26, 2001. The agreement is the final, executed Indian Pond Hydroelectric Project Settlement Agreement for Project No. 2142. The Settlement Agreement is comprehensive resolving issues among the signatory parties related to project operations, minimum flow, fisheries enhancement, wildlife and wetlands, recreation, and land-use, as well as other resolved subjects. Comments and reply comments on the Settlement Agreement are due as indicated in item h. above.

l. Copies of the Settlement Agreement are available for review in the Public Reference Branch, Room 2-A, of the Commission's offices at 888 First Street, NE., Washington, DC 20426. The Settlement Agreement may also be viewed on the web at http://www.ferc.gov using the “RIMS” link, select “Docket#” and follow the instructions (call 202-208-2222 for assistance). A copy of the Settlement Agreement is also available for inspection and reproduction at the address in item f. above.

David P. Boergers,
Secretary.

[FR Doc. 01-19714 Filed 8-6-01; 8:45 am]

BILLING CODE 6717-01-P